NATIONAL AERONAUTICS AND SPACE ADMINISTRATION

[Notice (01-041)]

U.S. Centennial of Flight Commission

AGENCY: National Aeronautics and Space Administration.

ACTION: Notice of meeting.

SUMMARY: In accordance with the Federal Advisory Committee Act, Pub. L. 92-463, as amended, the National Aeronautics and Space Administration announces a meeting of the U.S. Centennial of Flight Commission.

DATES: Wednesday, April 26, 2001, 1:00 p.m. to 3:30 p.m.

ADDRESSES: National Aeronautics and Space Administration, 300 E Street, SW., Room 6H46, Washington, DC 20546. Attendees must check in at the Security Desk to be cleared to the 6th floor conference room.

FOR FURTHER INFORMATION CONTACT: Ms. Beverly Farmarco, Code ZC, National Aeronautics and Space Administration, Washington, DC 20546, 202/358-1903.

SUPPLEMENTARY INFORMATION: The meeting will be open to the public up to the seating capacity of the room. The agenda for the meeting is as follows:

—Presentation by AIAA

—Presentation by Chip Forbes of C. Forbes, Inc.

—Status report of actions

—Results of the Survey Letter to the Commissioners

It is imperative that the meeting be held on this date to accommodate the scheduling priorities of the key participants. Visitors will be requested to sign a visitor's register.

March 27, 2001.
Beth M. McCormick,
Advisory Committee Management Officer, National Aeronautics and Space Administration.

[FR Doc. 01-8229 Filed 4-3-01; 8:45 am]

BILLING CODE 7510-01-P